DEPARTMENT OF LABOR

Employment and Training Administration Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 11, 2010.

Interested persons are invited to submit written comments regarding the subject matter of the investigations to the Director, Division of Trade Adjustment Assistance, at the address shown below, not later than February 11, 2010.

The petitions filed in this case are available for inspection at the Division of Trade Adjustment Assistance, Employment and Training Administration, U.S. Department of Labor, Room N-5428, 200 Constitution Avenue, NW., Washington, DC 20210.

Signed at Washington, DC, this 22nd day of January 2009.
Elliott Kushner,
Certifying Officer, Division of Trade Adjustment Assistance.

APPENDIX
TAA petitions instituted between 12/14/09 and 12/18/09
TA-W | Subject firm (petitioners) | Location | Date of institution | Date of petition
73082 | Yellow Roadway Corporation, Site 457 (Wkrs) | Mechanicsburg, PA | 12/14/09 | 12/08/09
73083 | Viewpointe Archive Services (State) | Parsippany, NJ | 12/14/09 | 12/11/09
73084 | Thyssen Krypp Elevator (Wkrs) | Walnut, MS | 12/14/09 | 12/11/09
73085 | Inspire Technologies, Inc. (Comp) | Caldwell, ID | 12/14/09 | 12/10/09
73086 | J.I.T Tool & Die, Inc. (Comp) | Brockport, PA | 12/14/09 | 12/11/09
73087 | Dover Parkersburg (Union) | Parkersburg, WV | 12/14/09 | 12/11/09
73088 | Emerson Process Management (State) | Chanhassen, MN | 12/14/09 | 12/11/09
73089 | Talhar, Inc. (Wkrs) | Meadville, PA | 12/14/09 | 12/11/09
73090 | Cambridge Filter Corp (Wkrs) | Gilbert, AZ | 12/14/09 | 12/01/09
73091 | Basic Aluminum Castings Company (Union) | Cleveland, OH | 12/14/09 | 12/02/09
73092 | Sun Microsystems (State) | Santa Clara, CA | 12/14/09 | 12/01/09
73093 | Ruan Transport (State) | Marshalltown, IA | 12/14/09 | 12/11/09
73094 | Trane Springhill (State) | Springhill, LA | 12/14/09 | 12/11/09
73095 | Avon Products, Inc. (Comp) | Springdale, OH | 12/15/09 | 12/13/09
73096 | U.S.F. Holland Motor Freight (Wkrs) | Romulus, MI | 12/15/09 | 11/18/09
73097 | Coventry Health Care, Inc. (Comp) | Bethesda, MD | 12/15/09 | 12/14/09
73098 | Valspar Coatings (Wkrs) | High Point, NC | 12/15/09 | 11/24/09
73099 | Siemen Medical Solutions (Wkrs) | Malvern, PA | 12/15/09 | 12/15/09
73100 | Superior Tire and Rubber Corporation (Wkrs) | Warren, PA | 12/15/09 | 11/30/09
73101 | Tyler Pipe Company (Comp) | Tyler, TX | 12/16/09 | 12/10/09
73102 | Hewlett Packard, PSG's Desktop Organization (State) | Cupertino, CA | 12/16/09 | 12/09/09
73103 | Marine Corps Logistics Base (State) | Barstow, CA | 12/16/09 | 12/15/09
73104 | United Steelworkers (Union) | Dawson, PA | 12/16/09 | 12/11/09
73105 | Avis Budget Group (Wkrs) | Wichita Falls, TX | 12/16/09 | 12/14/09
73106 | Open Solutions (State) | Windsor Locks, CT | 12/16/09 | 12/15/09
73107 | Infrasoft International (Wkrs) | State College, PA | 12/16/09 | 12/15/09
73108 | Allegis Group (Tek Systems) (Wkrs) | Pittsburgh, PA | 12/16/09 | 11/30/09
73109 | Dayco Products, LLC (Comp) | Walterboro, SC | 12/16/09 | 12/09/09
73110 | Robin Industries, Inc. (Wkrs) | Cleveland, OH | 12/16/09 | 12/10/09
73111 | Monahan SFI, LLC (Comp) | Middlebury, VT | 12/16/09 | 12/15/09
73112 | Sundance Spas, Inc. (State) | Chino, CA | 12/16/09 | 12/15/09
73113 | Foamex International (State) | Novi, MI | 12/16/09 | 11/19/09
73114 | Maddox Drilling (Wkrs) | San Angelo, TX | 12/16/09 | 12/15/09
73115 | Solvay Advanced Polymers (Comp) | Marietta, OH | 12/16/09 | 12/02/09
73116 | Teradyne, Inc. (Comp) | Agoura Hills, CA | 12/16/09 | 12/03/09
73117 | New Hampshire Oncology-Hematology (Comp) | Hooksett, NH | 12/17/09 | 12/15/09
73118 | First Express Remittance Processing/First Tennessee Bank (Rep) | Louisville, KY | 12/17/09 | 12/16/09
73119 | Crown Paper Box (Comp) | Indianapolis, IN | 12/17/09 | 12/02/09
73120 | SPX-PE (Wkrs) | Buffalo, NY | 12/17/09 | 12/16/09
73121 | Hyosung USA, Inc. (Wkrs) | Scottsville, VA | 12/17/09 | 12/11/09
73122 | General Mills (State) | Golden Valley, MN | 12/18/09 | 12/17/09
73123 | Garland Commercial Industries, LLC (Comp) | Freeland, PA | 12/18/09 | 12/17/09
73124 | Suite Simplicity, LLC (Wkrs) | Greensboro, NC | 12/18/09 | 12/17/09
73125 | Baker Hughes (Wkrs) | Houston, TX | 12/18/09 | 12/16/09
73126 | Freescale Semiconductor, Inc. (Wkrs) | Austin, TX | 12/18/09 | 12/11/09
73127 | Freescale Semiconductor, Inc. (Wkrs) | Austin, TX | 12/18/09 | 12/09/09

[FR Doc. 2010-1883 Filed 1-29-10; 8:45 am]

BILLING CODE 4510-FN-P